DEPARTMENT OF COMMERCE

National Oceanic and Atmospheric Administration

[I.D. 030101B]

Mid-Atlantic Fishery Management Council; Public Meeting

AGENCY: National Marine Fisheries Service (NMFS), National Oceanic and Atmospheric Administration (NOAA), Commerce.

ACTION: Notice of public meeting.

SUMMARY: The Mid-Atlantic Fishery Management Council (Council) and its Information and Education Committee, Large Pelagic Committee, Executive Committee, and Law Enforcement Committee will hold a public meeting.

DATES: The meeting will be held on Tuesday, March 20, 2001, through Thursday March 22, 2001. See SUPPLEMENTARY INFORMATION for specific dates and times.

ADDRESSES: The meeting will be held at the Golden Inn, Oceanfront at 78th Street, Avalon, NJ; telephone: 609-368-5155.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: Tuesday, March 20, 2001, 1 p.m. to 5 p.m.—Information and Education Committee program.

Wednesday, March 21, 2001, 8 a.m. to 9 a.m.—the Large Pelagics Committee will meet

9 a.m. to 5 p.m.—Council will meet.

Thursday, March 22, 2001, 8 a.m. to 9 a.m.—the Executive Committee and Law Enforcement Committee will meet.

9 a.m. to 1 p.m.—Council will meet.

Agenda items for this meeting are: Review and discuss new bycatch reduction technologies; review recent NMFS actions and rules affecting Highly Migratory Species (HMS); review, discuss, and adopt Framework 2 management measures regarding extension of Illex moratorium, Loligo exemption in Illex fishery, real time management of Loligo, rule roll-over for mackerel; address preparation of an Environmental Impact Statement (EIS), or Supplemental Environmental Impact Statement (SEIS), to assess potential affects on the human environment owing to initiation of Amendment 13 to the Surfclam and Ocean Quahog Fishery Management Plan (FMP), which deals with new surfclam overfishing definition, fishing gear impacts on essential fish habitat (EFH), multi-year quotas, reversal of the requirement of regulatory action to suspend the surfclam size limit, development of a vessel monitoring system; address preparation of an EIS, or SEIS, to assess potential effects on the human environment owing to initiation of Amendment 13 to the Summer Flounder, Scup, and Black Sea Bass FMP, which deals with future commercial fishery management measures for black sea bass, and fishing gear impacts on EFH; the Executive Committee will review outcomes from the February Coordinating Council meeting, and review outcomes from NMFS meeting on National Environmental Policy Act (NEPA) requirements/responsibilities (potential EFH and EIS impacts); the Law Enforcement Committee will address means to better integrate and synchronize timing of law enforcement comments regarding proposed management actions and enforceability; the Council will hear organizational and committee reports including the New England Council's report where the Council may address possible actions on herring, groundfish, monkfish, red crab, scallops, skates, and whiting. Council may also address possible actions from the South Atlantic Council meeting on dolphin/wahoo; may discuss whiting management and possible impacts on the Mid-Atlantic Council fisheries; and may address and recommend a position regarding joint venture processing allocation for mackerel.

Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council’s intent to take final actions to address such emergencies.

Special Accommodations

This meeting is physically accessible to people with disabilities. Requests for sign language interpretation or other auxiliary aids should be directed to Joanna Davis at the Council (see ADDRESSES) at least 5 days prior to the meeting date.

Dated: March 1, 2001.
Bruce C. Morehead,
Acting Director, Office of Sustainable Fisheries, National Marine Fisheries Service.

[FR Doc. 01-5438 Filed 3-5-01; 8:45 am]

BILLING CODE 3510-22-S